FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—01/03/2007
20061489 | Allied Waste Industries, Inc | Waste Services, Inc | Cactus Waste Systems, LLC, Waste Services of Arizona, Inc.
20070494 | Forest Laboratories, Inc | Cerexa, Inc | Cerexa, Inc.
20070496 | Carlyle Partners IV, L.P | ElkCorp | ElkCorp.
20070498 | Odyssey Investment Partners Fund III, L.P | DLJ Merchant Banking Partners III, L.P | WQP Holdings, Inc.
20070501 | CPG International Holdings LP | Pro-Cell, LLC | Pro-Cell, LLC.
20070502 | Natixis | Hansberger Group, Inc | Hansberger Group, Inc.
20070503 | Torchmark Corporation | Barry Wolf | Direct Marketing Advertising Distributors.
20070515 | West Fraser Timber Company Ltd | International Paper Company | International Paper Company.
20070517 | Seagate Technology | EVault, Inc | eVault Canada, Inc.
20070528 | Trevor Lloyd | Sirsi Holdings Corp | Sirsi Holdings Corp.
20070535 | Penn National Gaming, Inc | R.D. Hubbard | Ruidoso Downs Racing, Inc., Zia Partners, LLC.
Transactions Granted Early Termination—01/04/2007
20070451 | Sonic Healthcare Limited | American Esoteric Laboratories, Inc | American Esoteric Laboratories, Inc.
20070497 | Telefonaktiebolaget LM Ericsson | Redback Networks, Inc | Redback Networks, Inc.
Transactions Granted Early Termination—01/05/2007
20070420 | Trian Partners, L.P | H.J. Heinz Company | H.J. Heinz Company.
20070499 | WLR Recovery Fund III, L.P | Lear Corporation | Lear Corporation.
20070510 | RR Acquisition Holding LLC | RailAmerica, Inc | RailAmerica, Inc.
20070513 | Schmolz + Bickenbach KG | A. Finkl & Sons Co | A. Finkl & Sons Co.
20070519 | Vestar AIV Holdings A. L.P | Wilton Re Holdings Limited | Wilton Re Holdings Limited.
20070526 | The Hain Celestial Group, Inc | North Castle Partners III, L.P | Avalon Holding Corporation.
20070534 | Trident III, L.P | Wilton Re Holdings Limited | Wilton Re Holdings Limited.
Transactions Granted Early Termination—01/08/2007
20070520 | V.F. Corporation | Faust E. Capobianco III | Majestic Athletic, Ltd., Majestic Graphics, Ltd., Majestics Athletic International, Ltd., Maria Rose Fashions, Inc.
20070524 | Weston Presidio V, L.P | Harvest Partners IV, L.P | HP Evenflo Holdings, Inc.
20070527 | Beecken Petty O'Keefe QP Fund II, L.P | Reichert, Inc | Reichert, Inc.
20070537 | Wabash Valley Power Association, Inc | Duke Energy Corporation | Duke Energy Indiana.
20070538 | ASML Holding N.V | Brion Technologies, Inc | Brion Technologies, Inc.
20070550 | Johnson & Johnson | Conor MedSystems, Inc | Conor MedSystems, Inc.
20070553 | Hewlett-Packard Company | Bitfone Corporation | Bitfone Corporation.
20070558 | Express Energy Services Holding LP | Mike Byrd | BAHD LLC, BAH Leasing, Ltd., Brazos Oilfield Services, Ltd., Byrd R&S Oilfield Services, L.P., D&D Tong, Ltd., Laydown, Ltd., MBCC, Ltd., Mike Byrd Casing Crews, Ltd., North Trail Oilfield Services, Ltd.
Transactions Granted Early Termination—01/09/2007
20070481 | The Stanley Works | GTCR Fund VII, L.P | SecurityCo Solutions, Inc.
20070495 | Schering-Plough Corporation | Valeant Pharmaceuticals International | Valeant Research & Development.
20070508 | J.W. Childs Equity Partners III, L.P | Sun Capital Partners II, L.P | Mattress Holding Corp.
20070521 | MDI Holdings, LLC | MacDermid, Incorporated | MacDermid, Incorporated.
20070556 | Giovanni Agnelli e.C.S.a.p.az | Mitsubishi Estate Company, Ltd | Cushman & Wakefield Holdings, Inc., Cushman & Wakefield, Inc.
20070560 | Publicis Groupe S.A | Digitas Inc | Digitas, Inc.
Transactions Granted Early Termination—01/10/2007
20070505 | Chemtura Corporation | Alex Kaufman | Kaufman Holdings Corporation.
20070542 | American Capital Strategies, Ltd | ONCAP L.P | Western Inventoy Service Holdings Ltd.
20070551 | American European Group, Inc | Merchants Group, Inc | Merchants Group, Inc.
20070554 | Avista Capital Partners, LP | Thomas L. Phillips | Phillips Investment Resources, LLC.
Transactions Granted Early Termination—01/11/2007
20070544 | Marquette Transportation Company, Inc | Raymond A. Eckstein, Jr | Eckstein Marine Service, L.L.C.
Transactions Granted Early Termination—01/12/2007
20070533 | Friedman Fleischer & Lowe Capital Partners II, L.P | Wilton Re Holdings Limited | Wilton Re Holdings Limited.
20070549 | Graeme Hart | SIG Holding Ltd | SIG Holding Ltd.
20070567 | Arlington Capital Partners II, L.P | Kevin McMurtry | Advanced Health Media, Inc.
20070573 | Avista Capital Partners, L.P | The McClatchy Company | Alternate Delivery Extra Distribution Company, Metro Marketing Associates, Inc., The Star Tribune Company.
20070575 | Bear Stearns Merchant Banking Partners III (Cayman) L.P | Caisse de depot de placement du Quebec | Alter Moneta Corporation.
Transactions Granted Early Termination—01/16/2007
20070492 | Perot Systems Corporation | Frank F. Islam | QSS Group, Inc.
20070581 | Alliance Data System Corporation | Hellman & Friedman Capital Partners V, L.P | DoubleClick, Inc.
Transactions Granted Early Termination—01/17/2007
20070487 | DSI International Sarl | Sentinel Capital Partners III, L.P | Fasloc Holdings, Inc.
20070583 | Level 3 Communications, Inc | Savvis, Inc | Mount Shasta Acquisition LLC.
20070595 | Apollo Investment Fund VI, L.P | Realogy Corporation | Realogy Corporation.
Transactions Granted Early Termination—01/18/2007
20070018 | Hospira, Inc | Mayne Pharma Limited | Mayne Pharma Limited.
Transactions Granted Early Termination—01/19/2007
20070568 | Euronet Worldwide, Inc | Fred Kunik | Continental Exchange Solutions, Inc., Global Exchange Services, Inc., RIA de la Hispaniola, C. Por A., RIA Envia Financial Services GmbH, RIA Envia France, SARL, RIA Envia, Inc., RIA Financial Services AG, RIA Financial Services Australia Party Ltd., RIA Financial Services Limited, RIA Financial Services Puerto Rico, RIA France SAS, RIA Italia SRL, RIA Telecommunicaciones S.A., RIA Telecommunications of Canada, RIA Telecom of New York, Inc., RIA Telecom, S.L. Unipersonal.
20070570 | Euronet Worldwide, Inc | Irving Barr | Continental Exchange Solutions, Inc., Global Exchange Services, Inc., RIA de la Hispaniola, C. Por A., RIA Envia Financial Services GmbH, RIA Envia France, SARL, RIA Envia, Inc., RIA Financial Services AG, RIA Financial Services Australia Party Ltd., RIA Financial Services Limited, RIA Financial Services Puerto Rico, RIA France SAS, RIA Italia SRL, RIA Telecommunicaciones S.A., RIA Telecommunications of Canada, RIA Telecom of New York, Inc., RIA Telecom, S.L. Unipersonal.
20070572 | Massachusetts Mutual Life Insurance Company | Scottish Re Group Limited | Scottish Re Group Limited.

For Further Information Contact: Sandra M. Peay, Contact Representative or Renee Hallman, Contact Representative Federal Trade Commission, Premerger Notification Office, Bureau of Competition, Room H-303, Washington, DC 20580, (202) 326-3100.

By direction of the Commission.
Donald S. Clark,
Secretary.

[FR Doc. 07-373 Filed 1-29-07; 8:45 am]

BILLING CODE 6750-07-M